DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by January 29, 2004.

Title, Form, and OMB Number: Vessel Operation Report; OMB Number 0710-0006.

Type of Request: Reinstatement.

Number of Respondents: 1,217.

Responses per Respondent: 159 (average).

Annual Responses: 193,906.

Average Burden per Response: 18 minutes.

Annual Burden Hours: 43,213.

Needs and uses: This is a U.S. Army Corps of Engineers information collection that serves as the basic instrument to collect waterborne commerce statistics. These data constitute the sole source for domestic vessel movements of freight and passengers on U.S. navigable waterways and harbors. These data, collected from vessel operating companies, are essential to plans for maintaining U.S. navigable waterways and are critical to the enforcement of the “Harbor Maintenance Tax” authorized under Pub. L. 99-662, Section 1402.

Affected Public: Business or other for profit.

Frequency: On occasion.

Respondent's Obligation: Mandatory.

OMB Desk Officer: Ms. Jacqueline Zeiher. Written comments and recommendations on the proposed information collection should be sent to Ms. Zeiher at the Office of Management and Budget, Desk Officer for DoD, Room 10236, New Executive Office Building, Washington, DC 20503.

DoD Clearance Officer: Ms. Jacqueline Davis. Written requests for copies of the information collection proposal should be sent to Ms. Davis, WHS/DIOR, 1215 Jefferson Davis Highway, Suite 1204, Arlington, VA 22202-4302.

Dated: December 19, 2003.
Patricia L. Toppings,
Alternate OSD Federal Register, Liaison Officer, Department of Defense.

[FR Doc. 03-31920 Filed 12-29-03; 8:45 am]

BILLING CODE 5001-06-M